DEPARTMENT OF HEALTH AND HUMAN SERVICES

Centers for Medicare & Medicaid Services

[Document Identifier: CMS-10398]

Agency Information Collection Activities: Proposed Collection; Comment Request

AGENCY: Centers for Medicare & Medicaid Services (CMS), Department of Health and Human Services.

ACTION: Notice of request for reinstatement of a previously approved information collection.

SUMMARY: On May 28, 2010, the Office of Management and Budget (OMB) issued Paperwork Reduction Act (PRA) guidance related to the “generic” clearance process. Generally, this is an expedited clearance process by which agencies may obtain OMB's approval of collection of information requests that are “usually voluntary, low-burden, and uncontroversial,” do not raise any substantive or policy issues, and do not require policy or methodological review. The process requires the submission of an overarching plan that defines the scope of the individual collections that may be submitted under that umbrella. This notice is intended to advise the public of our intent to reinstate OMB's approval of our generic umbrella (CMS-10398, OMB control number 0938-1148) and all of the individual generic collection of information requests that fall under that umbrella. This notice also provides the public with general instructions for obtaining documents that are associated with such collections and for submitting comments.

DATES: Comments must be received by August 12, 2024.

ADDRESSES:

Submitting comments: When commenting, please reference the applicable collection's CMS ID number and/or the OMB control number (both numbers are listed below under the SUPPLEMENTARY INFORMATION caption). To be assured consideration, comments and recommendations must be submitted in any one of the following ways and by the applicable due date:

1. Electronically. We encourage you to submit comments through the Federal eRulemaking portal at the applicable web address listed below under the SUPPLEMENTARY INFORMATION caption under “Docket Information.” If needed, instructions for submitting such comments can be found on that website.

2. By regular mail. Alternatively, you can submit written comments to the following address: CMS, Office of Strategic Operations and Regulatory Affairs (OSORA), Division of Regulations Development, Attention: CMS-10398/OMB 0938-1148, Room C4-26-05, 7500 Security Boulevard, Baltimore, MD 21244-1850.

Obtaining documents: To obtain copies of supporting statements and any related forms and supporting documents for the collections listed in this notice, we encourage you to access the Federal eRulemaking portal at the applicable web address listed below under the SUPPLEMENTARY INFORMATION caption under “Docket Information” and “Docket Web Address.” If needed, follow the online instructions for accessing the applicable docket and the documents contained therein.

FOR FURTHER INFORMATION CONTACT: For general information contact William N. Parham at 410-786-4669. For policy related questions contact the individual listed below under the SUPPLEMENTARY INFORMATION caption under “Docket Information.”

SUPPLEMENTARY INFORMATION: Under the PRA (44 U.S.C. 3501-3520), Federal agencies must obtain approval from OMB for each collection of information that they conduct or sponsor. The term “collection of information” is defined in 44 U.S.C. 3502(3) and 5 CFR 1320.3(c). Generally, it applies to voluntary and mandatory requirements that are related to any one or more of the following activities: the collection of information, the reporting of information, the disclose of information to a third-party, and/or recordkeeping.

While there are some exceptions (such as collections having non-substantive changes and collections requesting emergency approval) section 3506(c)(2)(A) of the PRA requires Federal agencies to publish a 60-day notice in the Federal Register and solicit comment on each of its proposed collections of information, including: new collections, extensions of existing collections, revisions of existing collections, and reinstatements of previously approved collections before submitting such collections to OMB for approval. To comply with this requirement, CMS is publishing this notice.

Interested parties are invited to submit comments regarding our burden estimates or any other aspect of the collection, including: the necessity and utility of the proposed information collection for the proper performance of our agency's functions; the accuracy of burden estimates; ways to enhance the quality, utility, and clarity of the information to be collected; and the use of automated collection techniques or other forms of information technology to minimize the information collection burden. See DATES and ADDRESSES for instructions for submitting comments.

While we will review all comments received, we may choose not to post off-topic or inappropriate comments. Otherwise, all comments will be posted without edit under the applicable docket number, including any personal information that the commenter provides. Our response to such comments will be posted at reginfo.gov under the applicable OMB control number.

Generic Umbrella for Medicaid and CHIP State Plan, Waiver, and Program Submissions

At this time, our collection is made up of the main umbrella (see collection number 1 in the following list) and fifty individual generic collections of information (see collection numbers 2 through 51 in the following list). Details such as the collection's requirements and burden estimates can be found in the collection's supporting statement and associated materials (see ADDRESSES for instructions for obtaining such documents).

Docket Information

1. Title: Generic Clearance for Medicaid and CHIP State Plan, Waiver, and Program Submissions.

Type of Request: Reinstatement of a previously approved collection.

CMS ID Number: CMS-10398.

OMB Control Number: 0938-1148.

eRulemaking Docket ID Number: CMS-2024-0029.

Docket Web Address: https://www.regulations.gov/docket/CMS-2024-0029.

For Policy Related Questions Contact: William N. Parham at 410-786-4669.

2. Title: CHIP Annual Report Template System (CARTs).

Type of Request: Reinstatement of a previously approved information collection.

CMS ID Number: CMS-10398 #1.

OMB Control Number: 0938-1148.

eRulemaking Docket ID Number: CMS-2024-0030.

Docket Web Address: https://www.regulations.gov/docket/CMS-2024-0030.

For Policy Related Questions Contact: Gigi Raney at 410-786-6117.

3. Title: Medicaid Managed Care Data Collection.

Type of Request: Reinstatement of a previously approved information collection.

CMS ID Number: CMS-10398 #2.

OMB Control Number: 0938-1148.

eRulemaking Docket ID Number: CMS-2024-0031.

Docket Web Address: https://www.regulations.gov/docket/CMS-2024-0031.

For Policy Related Questions Contact: Alexis Gibson at 410-786-2813.

4. Title: Medicaid Payment Suspensions.

Type of Request: Reinstatement of a previously approved information collection.

CMS ID Number: CMS-10398 #5.

OMB Control Number: 0938-1148.

eRulemaking Docket ID Number: CMS-2024-0032.

Docket Web Address: https://www.regulations.gov/docket/CMS-2024-0032.

For Policy Related Questions Contact: Vikki Guarisco at 443-764-4776.

5. Title: Cycle IV (AI/AN Round II Outreach & Enrollment Grant Final Report Addendum) and Cycle V (Connecting Kids to Coverage Outreach and Enrollment Semi-Annual and Final.

Type of Request: Reinstatement of a previously approved information collection.

CMS ID Number: CMS-10398 #7.

OMB Control Number: 0938-1148.

eRulemaking Docket ID Number: CMS-2024-0033.

Docket Web Address: https://www.regulations.gov/docket/CMS-2024-0033.

For Policy Related Questions Contact: Stephanie Bell at 410-786-0617.

6. Title: Application for Section 1915(b)(4) Waiver—Fee For Service Selective Contracting Program.

Type of Request: Reinstatement of a previously approved information collection.

CMS ID Number: CMS-10398 #9.

OMB Control Number: 0938-1148.

eRulemaking Docket ID Number: CMS-2024-0034.

Docket Web Address: https://www.regulations.gov/docket/CMS-2024-0034.

For Policy Related Questions Contact: Rebecca Burch Mack at 303-844-7355.

7. Title: Section 1115 Demonstration and Waiver Application.

Type of Request: Reinstatement of a previously approved information collection.

CMS ID Number: CMS-10398 #10.

OMB Control Number: 0938-1148.

eRulemaking Docket ID Number: CMS-2024-0035.

Docket Web Address: https://www.regulations.gov/docket/CMS-2024-0035.

For Policy Related Questions Contact: Teresa DeCaro at 202-384-6309.

8. Title: MAGI- Based Eligibility Verification Plan.

Type of Request: Reinstatement of a previously approved information collection.

CMS ID Number: CMS-10398 #11.

OMB Control Number: 0938-1148.

eRulemaking Docket ID Number: CMS-2024-0036.

Docket Web Address: https://www.regulations.gov/docket/CMS-2024-0036.

For Policy Related Questions Contact: Martin Burian at 410-786-3246.

9. Title: Medicaid Accountability—Nursing Facility, Outpatient Hospital and Inpatient Hospital Upper Payment Limits.

Type of Request: Reinstatement of a previously approved information collection.

CMS ID Number: CMS-10398 #13.

OMB Control Number: 0938-1148.

eRulemaking Docket ID Number: CMS-2024-0037.

Docket Web Address: https://www.regulations.gov/docket/CMS-2024-0037.

For Policy Related Questions Contact: Richard Kimball at 410-786-2278.

10. Title: Federally-Facilitated Marketplace (FFM) Integration Data Collection Tool.

Type of Request: Reinstatement of a previously approved information collection.

CMS ID Number: CMS-10398 #16.

OMB Control Number: 0938-1148.

eRulemaking Docket ID Number: CMS-2024-0039.

Docket Web Address: https://www.regulations.gov/docket/CMS-2024-0039.

For Policy Related Questions Contact: Pascale Ghafari at 410-786-0719.

11. Title: CHIP State Plan Eligibility.

Type of Request: Reinstatement of a previously approved information collection.

CMS ID Number: CMS-10398 #17.

OMB Control Number: 0938-1148.

eRulemaking Docket ID Number: CMS-2024-0040.

Docket Web Address: https://www.regulations.gov/docket/CMS-2024-0040.

For Policy Related Questions Contact: Joyce Jordan at 410-786-3413.

12. Title: FMAP Claiming State Plan Amendment.

Type of Request: Reinstatement of a previously approved information collection.

CMS ID Number: CMS-10398 #21.

OMB Control Number: 0938-1148.

eRulemaking Docket ID Number: CMS-2024-0042.

Docket Web Address: https://www.regulations.gov/docket/CMS-2024-0042.

For Policy Related Questions Contact: Robert Lane at 410-786-2015.

13. Title: Medicaid Accountability—UPL ICF/IID, Clinic Services, Medicaid Qualified Practitioner Services and Other Inpatient & Outpatient Facility Providers.

Type of Request: Reinstatement of a previously approved information collection.

CMS ID Number: CMS-10398 #24.

OMB Control Number: 0938-1148.

eRulemaking Docket ID Number: CMS-2024-0044.

Docket Web Address: https://www.regulations.gov/docket/CMS-2024-0044.

For Policy Related Questions Contact: Richard Kimball at 410-786-2278.

14. Title: MAGI Conversion Plan Part 2.

Type of Request: Reinstatement of a previously approved information collection.

CMS ID Number: CMS-10398 #27.

OMB Control Number: 0938-1148.

eRulemaking Docket ID Number: CMS-2024-0046.

Docket Web Address: https://www.regulations.gov/docket/CMS-2024-0046.

For Policy Related Questions Contact: Martin Burian at 410-786-3246.

15. Title: MMIS APD Template NCCI Coding Initiative.

Type of Request: Reinstatement of a previously approved information collection.

CMS ID Number: CMS-10398 #28.

OMB Control Number: 0938-1148.

eRulemaking Docket ID Number: CMS-2024-0047.

Docket Web Address: https://www.regulations.gov/docket/CMS-2024-0047.

For Policy Related Questions Contact: Wendy Alexander at 410-786-5245.

16. Title: Medicaid Cost Sharing.

Type of Request: Reinstatement of a previously approved information collection.

CMS ID Number: CMS-10398 #29.

OMB Control Number: 0938-1148.

eRulemaking Docket ID Number: CMS-2024-0048.

Docket Web Address: https://www.regulations.gov/docket/CMS-2024-0048.

For Policy Related Questions Contact: Stephanie Bell at 410-786-0617.

17. Title: State Reporting Medicaid Payment Suspension.

Type of Request: Reinstatement of a previously approved information collection.

CMS ID Number: CMS-10398 #30.

OMB Control Number: 0938-1148.

eRulemaking Docket ID Number: CMS-2024-0049.

Docket Web Address: https://www.regulations.gov/docket/CMS-2024-0049.

For Policy Related Questions Contact: Wendy Alexander at 410-786-5245.

18. Title: Statewide HCBS Transition Plans.

Type of Request: Reinstatement of a previously approved information collection.

CMS ID Number: CMS-10398 #31.

OMB Control Number: 0938-1148.

eRulemaking Docket ID Number: CMS-2024-0050.

Docket Web Address: https://www.regulations.gov/docket/CMS-2024-0050.

For Policy Related Questions Contact: Michele MacKenzie at 410-786-5929.

19. Title: Provider-Preventable Conditions under 42 CFR 438.6 and 447.26 and Title 2702 Non-Payment Preprint (Attachment 4.19).

Type of Request: Reinstatement of a previously approved information collection.

CMS ID Number: CMS-10398 #32.

OMB Control Number: 0938-1148.

eRulemaking Docket ID Number: CMS-2024-0051.

Docket Web Address: https://www.regulations.gov/docket/CMS-2024-0051.

For Policy Related Questions Contact: Andrew Badaracco at 410-786-4589.

20. Title: Opportunity for families of Disabled Children to Purchase Medicaid Coverage for Such Children (DRA 6062).

Type of Request: Reinstatement of a previously approved information collection.

CMS ID Number: CMS-10398 #33.

OMB Control Number: 0938-1148.

eRulemaking Docket ID Number: CMS-2024-0053.

Docket Web Address: https://www.regulations.gov/docket/CMS-2024-0053.

For Policy Related Questions Contact: Martin Burian at 410-786-3246.

21. Title: Model Application Template and Instructions for State Child Health Plan Under Title XXI of the Social Security Act, State Children's Health Insurance Program.

Type of Request: Reinstatement of a previously approved information collection.

CMS ID Number: CMS-10398 #34.

OMB Control Number: 0938-1148.

eRulemaking Docket ID Number: CMS-2024-0054.

Docket Web Address: https://www.regulations.gov/docket/CMS-2024-0054.

For Policy Related Questions Contact: Chanelle Parker at 667-290-9798.

22. Title: Eligibility and Enrollment Performance Indicators.

Type of Request: Reinstatement of a previously approved information collection.

CMS ID Number: CMS-10398 #35.

OMB Control Number: 0938-1148.

eRulemaking Docket ID Number: CMS-2024-0055.

Docket Web Address: https://www.regulations.gov/docket/CMS-2024-0055.

For Policy Related Questions Contact: Vikki Guarisco at 443-764-4776.

23. Title: Managed Care Rate Setting Guidance.

Type of Request: Reinstatement of a previously approved information collection.

CMS ID Number: CMS-10398 #37.

OMB Control Number: 0938-1148.

eRulemaking Docket ID Number: CMS-2024-0056.

Docket Web Address: https://www.regulations.gov/docket/CMS-2024-0056.

For Policy Related Questions Contact: Rebecca Burch Mack at 303-844-7355.

24. Title: Section 223 Demonstration Programs to Improve Community Mental Health Services.

Type of Request: Reinstatement of a previously approved information collection.

CMS ID Number: CMS-10398 #43.

OMB Control Number: 0938-1148.

eRulemaking Docket ID Number: CMS-2024-0057.

Docket Web Address: https://www.regulations.gov/docket/CMS-2024-0057.

For Policy Related Questions Contact: Beverly Boston at 410-786-4186.

25. Title: 1915(i) State Plan Home and Community Based Services.

Type of Request: Reinstatement of a previously approved information collection.

CMS ID Number: CMS-10398 #46.

OMB Control Number: 0938-1148.

eRulemaking Docket ID Number: CMS-2024-0059.

Docket Web Address: https://www.regulations.gov/docket/CMS-2024-0059.

For Policy Related Questions Contact: Kathy Poisal at 410-786-5940.

26. Title: Section 223 Demonstration Programs to Improve Community Mental Health Services.

Type of Request: Reinstatement of a previously approved information collection.

CMS ID Number: CMS-10398 #48.

OMB Control Number: 0938-1148.

eRulemaking Docket ID Number: CMS-2024-0061.

Docket Web Address: https://www.regulations.gov/docket/CMS-2024-0061.

For Policy Related Questions Contact: Beverly Boston at 410-786-4186.

27. Title: Community First Choice State Plan.

Type of Request: Reinstatement of a previously approved information collection.

CMS ID Number: CMS-10398 #50.

OMB Control Number: 0938-1148.

eRulemaking Docket ID Number: CMS-2024-0062.

Docket Web Address: https://www.regulations.gov/docket/CMS-2024-0062.

For Policy Related Questions Contact: Adrienne Delozier at 410-786-0278.

28. Title: Fast Track Federal Review Process for Section 1115 Medicaid and CHIP Demonstration Extensions.

Type of Request: Reinstatement of a previously approved information collection.

CMS ID Number: CMS-10398 #51.

OMB Control Number: 0938-1148.

eRulemaking Docket ID Number: CMS-2024-0063.

Docket Web Address: https://www.regulations.gov/docket/CMS-2024-0063.

For Policy Related Questions Contact: Teresa DeCaro at 202-384-6309.

29. Title: Delivery System and Provider Payment Initiatives Under Medicaid Managed Care Products.

Type of Request: Reinstatement of a previously approved information collection.

CMS ID Number: CMS-10398 #52.

OMB Control Number: 0938-1148.

eRulemaking Docket ID Number: CMS-2024-0064.

Docket Web Address: https://www.regulations.gov/docket/CMS-2024-0064.

For Policy Related Questions Contact: John Giles at 667-290-8626.

30. Title: Section 1115 Substance Use Disorder (SUD) Demonstration: Guide for Developing Implementation Plan Protocols.

Type of Request: Reinstatement of a previously approved information collection.

CMS ID Number: CMS-10398 #53.

OMB Control Number: 0938-1148.

eRulemaking Docket ID Number: CMS-2024-0065.

Docket Web Address: https://www.regulations.gov/docket/CMS-2024-0065.

For Policy Related Questions Contact: Theresa DeCaro at 202-384-6309.

31. Title: Electronic Visit Verification (EVV) Good Faith Effort Exemption Requests.

Type of Request: Reinstatement of a previously approved information collection.

CMS ID Number: CMS-10398 #54.

OMB Control Number: 0938-1148.

eRulemaking Docket ID Number: CMS-2024-0066.

Docket Web Address: https://www.regulations.gov/docket/CMS-2024-0066.

For Policy Related Questions Contact: Ryan Shannahan at 410-786-0295.

32. Title: Limit on Federal Financial Participation for Durable Medical Equipment in Medicaid.

Type of Request: Reinstatement of a previously approved information collection.

CMS ID Number: CMS-10398 #55.

OMB Control Number: 0938-1148.

eRulemaking Docket ID Number: CMS-2024-0067.

Docket Web Address: https://www.regulations.gov/docket/CMS-2024-0067.

For Policy Related Questions Contact: Richard Kimball at 410-786-2278.

33. Title: Section 1115 Demonstration: Budget Neutrality Workbook.

Type of Request: Reinstatement of a previously approved information collection.

CMS ID Number: CMS-10398 #56.

OMB Control Number: 0938-1148.

eRulemaking Docket ID Number: CMS-2024-0068.

Docket Web Address: https://www.regulations.gov/docket/CMS-2024-0068.

For Policy Related Questions Contact: Theresa DeCaro at 202-384-6309.

34. Title: Section 1115 Substance Use Disorder (SUD) Demonstration: Monitoring Reports Documents and Templates.

Type of Request: Reinstatement of a previously approved information collection.

CMS ID Number: CMS-10398 #57.

OMB Control Number: 0938-1148.

eRulemaking Docket ID Number: CMS-2024-0069.

Docket Web Address: https://www.regulations.gov/docket/CMS-2024-0069.

For Policy Related Questions Contact: Theresa DeCaro at 202-384-6309.

35. Title: Medicaid Section 1115 Eligibility and Coverage Demonstration Implementation Plan and Monitoring Reports Documents and Templates.

Type of Request: Reinstatement of a previously approved information collection.

CMS ID Number: CMS-10398 #58.

OMB Control Number: 0938-1148.

eRulemaking Docket ID Number: CMS-2024-0070.

Docket Web Address: https://www.regulations.gov/docket/CMS-2024-0070.

For Policy Related Questions Contact: Theresa DeCaro at 202-384-6309.

36. Title: Medicaid Section 1115 Severe Mental Illness and Children with Serious Emotional Disturbance Demonstrations.

Type of Request: Reinstatement of a previously approved information collection.

CMS ID Number: CMS-10398 #59.

OMB Control Number: 0938-1148.

eRulemaking Docket ID Number: CMS-2024-0071.

Docket Web Address: https://www.regulations.gov/docket/CMS-2024-0071.

For Policy Related Questions Contact: Theresa DeCaro at 202-384-6309.

37. Title: Medicaid Disaster Relief for the COVID-19 National Emergency State Plan Amendment Template and Instructions.

Type of Request: Reinstatement of a previously approved information collection.

CMS ID Number: CMS-10398 #61.

OMB Control Number: 0938-1148.

eRulemaking Docket ID Number: CMS-2024-0073.

Docket Web Address: https://www.regulations.gov/docket/CMS-2024-0073.

For Policy Related Questions Contact: Anne Marie Costello at 410-786-5075.

38. Title: Data Collection for Section 1003 of the SUPPORT Act.

Type of Request: Reinstatement of a previously approved information collection.

CMS ID Number: CMS-10398 #62.

OMB Control Number: 0938-1148.

eRulemaking Docket ID Number: CMS-2024-0074.

Docket Web Address: https://www.regulations.gov/docket/CMS-2024-0074.

For Policy Related Questions Contact: Melanie Brown at 410-786-1095.

39. Title: 1932(a) State Plan Amendment Template.

Type of Request: Reinstatement of a previously approved information collection.

CMS ID Number: CMS-10398 #63.

OMB Control Number: 0938-1148.

eRulemaking Docket ID Number: CMS-2024-0075.

Docket Web Address: https://www.regulations.gov/docket/CMS-2024-0075.

For Policy Related Questions Contact: Amy Gentile at 410-786-3499.

40. Title: Federal Meta-Analysis Support: Section 1115 Substance Use Disorder Demonstrations.

Type of Request: Reinstatement of a previously approved information collection.

CMS ID Number: CMS-10398 #64.

OMB Control Number: 0938-1148.

eRulemaking Docket ID Number: CMS-2024-0076.

Docket Web Address: https://www.regulations.gov/docket/CMS-2024-0076.

For Policy Related Questions Contact: Danielle Daly at 410-786-0897.

41. Title: Medicaid and CHIP COVID 19 Public Health Emergency Unwinding Reports.

Type of Request: Reinstatement of a previously approved information collection.

CMS ID Number: CMS-10398 #66.

OMB Control Number: 0938-1148.

eRulemaking Docket ID Number: CMS-2024-0077.

Docket Web Address: https://www.regulations.gov/docket/CMS-2024-0077.

For Policy Related Questions Contact: Jessica Stephens at 410-786-3341.

42. Title: Section 1006(b) of the SUPPORT Act: Medicaid Assisted Treatment (MAT).

Type of Request: Reinstatement of a previously approved information collection.

CMS ID Number: CMS-10398 #68.

OMB Control Number: 0938-1148.

eRulemaking Docket ID Number: CMS-2024-0078.

Docket Web Address: https://www.regulations.gov/docket/CMS-2024-0078.

For Policy Related Questions Contact: Kirsten Jensen at 410-786-8146.

43. Title: Reporting Requirements for Additional Funding for Medicaid HCBS During the COVID-19 Emergency.

Type of Request: Reinstatement of a previously approved information collection.

CMS ID Number: CMS-10398 #69.

OMB Control Number: 0938-1148.

eRulemaking Docket ID Number: CMS-2024-0079.

Docket Web Address: https://www.regulations.gov/docket/CMS-2024-0079.

For Policy Related Questions Contact: Stephanie Bell at 410-786-0617.

44. Title: Reporting Requirements for State Planning Grants for Qualifying Community Based Mobile Crisis Intervention Services During the COVID-19 Emergency.

Type of Request: Reinstatement of a previously approved information collection.

CMS ID Number: CMS-10398 #71.

OMB Control Number: 0938-1148.

eRulemaking Docket ID Number: CMS-2024-0080.

Docket Web Address: https://www.regulations.gov/docket/CMS-2024-0080.

For Policy Related Questions Contact: Effie George at 410-786-8639.

45. Title: Expressions of Interest in the Infant Well-Child Visit Affinity Group.

Type of Request: Reinstatement of a previously approved information collection.

CMS ID Number: CMS-10398 #72.

OMB Control Number: 0938-1148.

eRulemaking Docket ID Number: CMS-2024-0081.

Docket Web Address: https://www.regulations.gov/docket/CMS-2024-0081.

For Policy Related Questions Contact: Kristin Zycherman at 410-786-6974.

46. Title: Supplemental Payment Reporting under the Consolidated Appropriations Act, 2021.

Type of Request: Reinstatement of a previously approved information collection.

CMS ID Number: CMS-10398 #73.

OMB Control Number: 0938-1148.

eRulemaking Docket ID Number: CMS-2024-0082.

Docket Web Address: https://www.regulations.gov/docket/CMS-2024-0082.

For Policy Related Questions Contact: Richard Kimball at 410-786-2278.

47. Title: Coverage of Routine Patient Cost for Items & Services in Qualifying Clinical Trials.

Type of Request: Reinstatement of a previously approved information collection.

CMS ID Number: CMS-10398 #74.

OMB Control Number: 0938-1148.

eRulemaking Docket ID Number: CMS-2024-0083.

Docket Web Address: https://www.regulations.gov/docket/CMS-2024-0083.

For Policy Related Questions Contact: Myla Adams at 410-786-8107.

48. Title: ARP 1135 State Plan Amendment.

Type of Request: Reinstatement of a previously approved information collection.

CMS ID Number: CMS-10398 #75.

OMB Control Number: 0938-1148.

eRulemaking Docket ID Number: CMS-2024-0084.

Docket Web Address: https://www.regulations.gov/docket/CMS-2024-0084.

For Policy Related Questions Contact: Kirsten Jensen at 410-786-8146.

49. Title: Expressions of Interest in the Improving Maternal Health by Reducing Low-Risk Cesarean Delivery Affinity Group.

Type of Request: Reinstatement of a previously approved information collection.

CMS ID Number: CMS-10398 #76.

OMB Control Number: 0938-1148.

eRulemaking Docket ID Number: CMS-2024-0085.

Docket Web Address: https://www.regulations.gov/docket/CMS-2024-0085.

For Policy Related Questions Contact: Richard Kimball at 410-786-2278.

50. Title: COVID-19 Risk Corridor Reconciliation Reporting Template.

Type of Request: Reinstatement of a previously approved information collection.

CMS ID Number: CMS-10398 #79.

OMB Control Number: 0938-1148.

eRulemaking Docket ID Number: CMS-2024-0086.

Docket Web Address: https://www.regulations.gov/docket/CMS-2024-0086.

For Policy Related Questions Contact: Elizabeth Jones at 410-786-7111.

51. Title: Improving Quality of Care and Outcomes Data for Pregnant Medicaid Beneficiaries and Newborn Infants through Linkage and Evaluation of VR, BC, DC, and TAF.

Type of Request: Reinstatement of a previously approved information collection.

CMS ID Number: CMS-10398 #81.

OMB Control Number: 0938-1148.

eRulemaking Docket ID Number: CMS-2024-0172.

Docket Web Address: https://www.regulations.gov/docket/CMS-2024-0172.

For Policy Related Questions Contact: Ali Fokar at 410-786-0020.

William N. Parham, III,
Director, Division of Information Collections and Regulatory Impacts, Office of Strategic Operations and Regulatory Affairs.

[FR Doc. 2024-13127 Filed 6-11-24; 11:15 am]

BILLING CODE 4120-01-P